DEPARTMENT OF ENERGY

Federal Energy Regulatory Commission

Combined Notice of Filings #1

Take notice that the Commission received the following electric corporate filings:

Docket Numbers: EC26-57-000.

Applicants: BIV Generation Company, L.L.C., Colorado Power Partners.

Description: Joint Application for Authorization Under Section 203 of the Federal Power Act of BIV Generation Company, L.L.C., et al.

Filed Date: 2/2/26.

Accession Number: 20260202-5247.

Comment Date: 5 p.m. ET 2/23/26.

Docket Numbers: EC26-58-000.

Applicants: Morgantown Power, LLC.

Description: Application for Authorization Under Section 203 of the Federal Power Act of Morgantown Power, LLC.

Filed Date: 2/2/26.

Accession Number: 20260202-5249.

Comment Date: 5 p.m. ET 2/23/26.

Docket Numbers: EC26-59-000.

Applicants: Darby Power, LLC, Lawrenceburg Power, LLC, Waterford Power, LLC, Cornerstone Generation Marketing, LLC, Talen Generation, LLC.

Description: Joint Application for Authorization Under Section 203 of the Federal Power Act of Darby Power, LLC, et al.

Filed Date: 1/30/26.

Accession Number: 20260130-5589.

Comment Date: 5 p.m. ET 3/16/26.

Docket Numbers: EC26-60-000.

Applicants: SE Athos I, LLC, SE Athos II, LLC, Angiola East, LLC, Pelicans Jaw Solar, LLC.

Description: Joint Application for Authorization Under Section 203 of the Federal Power Act of SE Athos I, LLC, et al.

Filed Date: 2/2/26.

Accession Number: 20260202-5251.

Comment Date: 5 p.m. ET 2/23/26.

Docket Numbers: EC26-61-000.

Applicants: Dempsey Ridge Wind Farm, LLC, EcoGrove Wind LLC, Red Hills Wind Project, L.L.C., Acciona Wind Energy USA LLC, Tatanka Wind Power, LLC, Nevada Solar One, LLC.

Description: Application for Authorization Under Section 203 of the Federal Power Act of Dempsey Ridge Wind Farm, LLC et al.

Filed Date: 2/3/26.

Accession Number: 20260203-5161.

Comment Date: 5 p.m. ET 2/24/26.

Docket Numbers: EC26-62-000.

Applicants: Sugar Maple Wind, LLC, Exus Sugar Maple Holdings LLC.

Description: Joint Application for Authorization Under Section 203 of the Federal Power Act of Sugar Maple Wind, LLC, et al.

Filed Date: 2/6/26.

Accession Number: 20260206-5185.

Comment Date: 5 p.m. ET 2/27/26.

Docket Numbers: EC26-63-000.

Applicants: Bridgeport Energy LLC, Essential Power Massachusetts, LLC, Essential Power Newington, LLC, Essential Power OPP, LLC, Essential Power Rock Springs, LLC, Hamilton Liberty LLC, Hamilton Patriot LLC, Hamilton Projects Acquiror, LLC, Lakewood Cogeneration, L.P., Nautilus Power, LLC, Revere Power, LLC, Rumford Power LLC, Tiverton Power LLC, Vistra Corp.

Description: Joint Application for Authorization Under Section 203 of the Federal Power Act of Bridgeport Energy LLC, et al.

Filed Date: 2/6/26.

Accession Number: 20260206-5187.

Comment Date: 5 p.m. ET 2/27/26.

Docket Numbers: EC26-64-000.

Applicants: EAM Nelson Holding, LLC, Entergy Power, LLC, EWO Marketing, LLC.

Description: Joint Application for Authorization Under Section 203 of the Federal Power Act of EAM Nelson Holding, LLC, et al.

Filed Date: 2/9/26.

Accession Number: 20260209-5161.

Comment Date: 5 p.m. ET 3/2/26.

Take notice that the Commission received the following electric rate filings:

Docket Numbers: ER10-2302-015; ER19-2674-008.

Applicants: New Mexico PPA Corporation, Public Service Company of New Mexico.

Description: Notice of Non-Material Change in Status of Public Service Company of New Mexico, et al. under ER10-2302, et al.

Filed Date: 1/30/26.

Accession Number: 20260130-5582.

Comment Date: 5 p.m. ET 2/20/26.

Docket Numbers: ER11-2035-001; ER11-4729-002.

Applicants: APN Starfirst, LP, American Powernet Management, LP.

Description: Notice of Change in Status of American Powernet Management, LP, et al. under ER11-2035, et al.

Filed Date: 1/30/26.

Accession Number: 20260130-5584.

Comment Date: 5 p.m. ET 2/20/26.

Docket Numbers: ER15-1905-022.

Applicants: AZ721 LLC.

Description: Notice of Change in Status of Amazon Energy LLC.

Filed Date: 1/30/26.

Accession Number: 20260130-5583.

Comment Date: 5 p.m. ET 2/20/26.

Docket Numbers: ER23-2541-003.

Applicants: Nevada Cogeneration Associates #2.

Description: Notice of Non-Material Change in Status of Nevada Cogeneration Associates #2.

Filed Date: 1/30/26.

Accession Number: 20260130-5585.

Comment Date: 5 p.m. ET 2/20/26.

Docket Numbers: ER24-1151-002.

Applicants: Aquamarine Lessee, LLC.

Description: Tariff Amendment: Errata to Response to Deficiency Letter to be effective 4/1/2024.

Filed Date: 2/9/26.

Accession Number: 20260209-5147.

Comment Date: 5 p.m. ET 3/2/26.

Docket Numbers: ER24-1152-002.

Applicants: Aquamarine Westside, LLC.

Description: Tariff Amendment: Errata to Response to Deficiency Letter to be effective 4/1/2024.

Filed Date: 2/9/26.

Accession Number: 20260209-5146.

Comment Date: 5 p.m. ET 3/2/26.

Docket Numbers: ER25-2182-001; ER25-2184-001.

Applicants: Energy Prepay IX, LLC, Energy Prepay VIII, LLC.

Description: Notice of Change in Status of Energy Prepay VIII, LLC, et al.

Filed Date: 1/30/26.

Accession Number: 20260130-5587.

Comment Date: 5 p.m. ET 2/20/26.

Docket Numbers: ER25-2211-002.

Applicants: American Beech Solar LLC.

Description: Notice of Non-Material Change in Status of American Beech Solar LLC.

Filed Date: 1/30/26.

Accession Number: 20260130-5581.

Comment Date: 5 p.m. ET 2/20/26.

Docket Numbers: ER26-1304-000.

Applicants: Golden Spread Electric Cooperative, Inc.

Description: Compliance filing: 676-K Compliance to be effective 2/27/2026.

Filed Date: 2/9/26.

Accession Number: 20260209-5140.

Comment Date: 5 p.m. ET 3/2/26.

Docket Numbers: ER26-1305-000.

Applicants: Southwest Power Pool, Inc.

Description: § 205(d) Rate Filing: 1313R20 Oklahoma Gas and Electric Company NITSA and NOA to be effective 12/1/2025.

Filed Date: 2/10/26.

Accession Number: 20260210-5008.

Comment Date: 5 p.m. ET 3/3/26.

Docket Numbers: ER26-1306-000.

Applicants: Keystone Appalachian Transmission Company.

Description: § 205(d) Rate Filing: KATCo submits amended IA—SA No. 6650 to be effective 4/12/2026.

Filed Date: 2/10/26.

Accession Number: 20260210-5009.

Comment Date: 5 p.m. ET 3/3/26.

Docket Numbers: ER26-1307-000.

Applicants: Rouget Road Solar Farm, LLC.

Description: Request for Limited and Prospective Waiver, et al. of Rouget Road Solar Farm, LLC.

Filed Date: 2/9/26.

Accession Number: 20260209-5160.

Comment Date: 5 p.m. ET 3/2/26.

Docket Numbers: ER26-1308-000.

Applicants: PJM Interconnection, L.L.C.

Description: § 205(d) Rate Filing: Original GIA No. 7837; AE1-185/AG2-478; Notice of Cancellation of ISA No. 6154 to be effective 1/12/2026.

Filed Date: 2/10/26.

Accession Number: 20260210-5018.

Comment Date: 5 p.m. ET 3/3/26.

Docket Numbers: ER26-1310-000.

Applicants: PJM Interconnection, L.L.C.

Description: § 205(d) Rate Filing: Amendment to ISA, SA No. 2360; Queue No. AD2-133/Q36 to be effective 4/12/2026.

Filed Date: 2/10/26.

Accession Number: 20260210-5024.

Comment Date: 5 p.m. ET 3/3/26.

Docket Numbers: ER26-1311-000.

Applicants: Southwest Power Pool, Inc.

Description: § 205(d) Rate Filing: Revisions to Attachment O for Interregional Transmission Coordination in the SPP to be effective 4/1/2026.

Filed Date: 2/10/26.

Accession Number: 20260210-5026.

Comment Date: 5 p.m. ET 3/3/26.

Docket Numbers: ER26-1312-000.

Applicants: Southwest Power Pool, Inc.

Description: § 205(d) Rate Filing: 4605 Hecate Energy Sooner Solar GIA to be effective 1/16/2026.

Filed Date: 2/10/26.

Accession Number: 20260210-5032.

Comment Date: 5 p.m. ET 3/3/26.

Docket Numbers: ER26-1313-000.

Applicants: Tri-State Generation and Transmission Association, Inc.

Description: § 205(d) Rate Filing: Amendment to Rate Schedule FERC No. 53 to be effective 4/12/2026.

Filed Date: 2/10/26.

Accession Number: 20260210-5046.

Comment Date: 5 p.m. ET 3/3/26.

Docket Numbers: ER26-1314-000.

Applicants: Southwest Power Pool, Inc.

Description: § 205(d) Rate Filing: Revisions Related to Attachment A, Section 3.7.2 and Tariff Clean Up to be effective 12/31/9998.

Filed Date: 2/10/26.

Accession Number: 20260210-5052.

Comment Date: 5 p.m. ET 3/3/26.

Docket Numbers: ER26-1315-000.

Applicants: PJM Interconnection, L.L.C.

Description: § 205(d) Rate Filing: Original GIA, Service Agreement No. 7841; Project Identifier No. AF2-081 to be effective 1/14/2026.

Filed Date: 2/10/26.

Accession Number: 20260210-5057.

Comment Date: 5 p.m. ET 3/3/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 10, 2026.
Carlos D. Clay,
Deputy Secretary.

[FR Doc. 2026-02939 Filed 2-12-26; 8:45 am]

BILLING CODE 6717-01-P